SMALL BUSINESS ADMINISTRATION

[Disaster Declaration #13579 and #13580]

Illinois Disaster Number IL-00041

AGENCY: U.S. Small Business Administration.

ACTION: Amendment 4.

SUMMARY: This is an amendment of the Presidential declaration of a major disaster for the State of Illinois (FEMA-4116-DR), dated 05/10/2013.

Incident: Severe storms, straight-line winds and flooding.

Incident Period: 04/16/2013 through 05/05/2013.

Effective Date: 07/02/2013.

Physical Loan Application Deadline Date: 07/24/2013.

EIDL Loan Application Deadline Date: 02/10/2014.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: The notice of the President's major disaster declaration for the State of Illinois, dated 05/10/2013 is hereby amended to extend the deadline for filing applications for physical damages as a result of this disaster to 07/24/2013.

All other information in the original declaration remains unchanged.

(Catalog of Federal Domestic Assistance Numbers 59002 and 59008)

James E. Rivera,
Associate Administrator for Disaster Assistance.

[FR Doc. 2013-17250 Filed 7-17-13; 8:45 am]

BILLING CODE 8025-01-P